COMMITTEE FOR PURCHASE FROM PEOPLE WHO ARE BLIND OR SEVERELY DISABLED

41 CFR Chapter 51

Unified Agenda of Federal Regulatory and Deregulatory Actions

AGENCY: Committee for Purchase From People Who Are Blind or Severely Disabled.

ACTION: Semiannual regulatory agenda.

SUMMARY: This agenda announces the proposed regulatory actions that the Committee for Purchase From People Who Are Blind or Severely Disabled (Committee) plans for the next 12 months. It is issued in accordance with Executive Order 12866, “Regulatory Planning and Review”, and E.O. 13563, “Improving Regulation and Regulatory Review”. The Committee's purpose for publishing this agenda is to allow interested persons an opportunity to participate in the rulemaking process via the Government's portal at www.regulations.gov. The Committee has attempted to list all regulations pending at the time of publication, except for minor and routine or repetitive actions, however, unanticipated requirements may result in the issuance of regulations not included in this agenda.

FOR FURTHER INFORMATION CONTACT: For further information on the agenda in general, contact Shelly Hammond, Director, Contracting and Policy, Committee for Purchase From People Who Are Blind or Severely Disabled, 355 E Street SW, Washington, DC 20024-3243; (571) 457-9468.

Shelly Hammond,
Director of Contracting & Policy.

Committee for Purchase From People Who Are Blind or Severely Disabled—Proposed Rule Stage
Sequence No. | Title | Regulation Identifier No.
188 | AbilityOne Program, Department of Defense Section 898, Contracting Oversight, Accountability and Integrity Panel (Rulemaking Resulting From a Section 610 Review) | 3037-AA14

COMMITTEE FOR PURCHASE FROM PEOPLE WHO ARE BLIND OR SEVERELY DISABLED (CPBSD)

Proposed Rule Stage

188. AbilityOne Program, Department of Defense Section 898, Contracting Oversight, Accountability and Integrity Panel (Rulemaking Resulting From a Section 610 Review) [3037-AA14]

Legal Authority: 41 U.S.C. 85

Abstract: The Committee for Purchase From People Who Are Blind or Severely Disabled (Committee) is requesting comment on how to incorporate recommendations from the section 898 panel review mandated by the National Defense Authorization Act for Fiscal Year 2017 (Pub. L. 114-328) into the Committee's regulation at 41 CFR part 51. The mission of the Panel is to assess the overall effectiveness and internal controls of the AbilityOne Program related to Department of Defense contracts and provide recommendations for changes in business practices. Areas requesting comment will include: responsibilities and procedures associated with authorization/de-authorization of nonperforming nonprofit agencies; transfer of work within the AbilityOne Program; and broadening the methodologies used for the review of and/or negotiation of initial fair market prices and revised fair market prices for products and services on the AbilityOne Program Procurement List.

Timetable:

Action | Date | FR Cite
NPRM | 09/00/22 |

Regulatory Flexibility Analysis Required: No.

Agency Contact: Shelly Hammond, Director, Policy and Programs, Committee for Purchase From People Who Are Blind or Severely Disabled, 355 E Street NW, Washington, DC 20319, Phone: 571 457-9468, Email: shammond@abilityone.gov.

RIN: 3037-AA14

[FR Doc. 2022-14611 Filed 8-5-22; 8:45 am]

BILLING CODE 6350-01-P